Title 3—

The President

Executive Order 13646 of June 25, 2013

Establishing the President's Advisory Council on Financial Capability for Young Americans

By the authority vested in me as President by the Constitution and the laws of the United States of America, it is hereby ordered as follows:

Section 1. Policy. To contribute to the Nation's future financial stability and increase upward economic mobility, it is the policy of the Federal Government to promote financial capability among young Americans and encourage building the financial capability of young people at an early stage in schools, families, communities, and the workplace. By starting early, young people can begin to learn the difference between wants and needs, the importance and power of saving, and the positive and productive role money can play in their lives. Having a basic understanding of money management from an early age will make our young people better equipped to tackle more complex financial decisions in their transition to adulthood, when critical decisions about financing higher education and saving for retirement can have lasting consequences for financial security. Strengthening the financial capability of our young people is an investment in our Nation's economic prosperity.

Financial capability is the capacity, based on knowledge, skills, and access, to manage financial resources prudently and effectively. Efforts to improve financial capability, which should be based on evidence of effectiveness, empower individuals to make informed choices, plan and set goals, avoid pitfalls, know where to seek help, and take other actions to better their present and long-term financial well-being.

Sec. 2. Establishment of the Council. There is established within the Department of the Treasury the President's Advisory Council on Financial Capability for Young Americans (Council).

Sec. 3. Membership and Operation of the Council. (a) The Council shall consist of:

(i) the Secretary of the Treasury (Secretary), and the Secretary of Education, who may designate a senior official from each of their respective departments to perform their Council duties; and

(ii) not more than 22 members appointed by the President from among individuals not employed by the Federal Government.

(b) Members of the Council shall include individuals with demonstrated experience or clear commitment to improving the financial capability of young people, such as individuals working with youth-serving organizations; educators and education policy experts; business leaders and employers of young workers; State, tribal, and local government policy makers; financial services providers; and innovators in financial capability. The composition of the Council shall reflect the views of diverse stakeholders.

(c) The Secretary shall invite the Director of the Bureau of Consumer Financial Protection to participate as a member of the Council, to the extent consistent with the Bureau's statutory authorities and legal obligations.

(d) The President shall designate a Chair and a Vice Chair from among the members of the Council appointed pursuant to subsection (a)(ii) of this section.

(e) Subject to the direction of the Secretary, the Chair shall convene and preside at meetings of the Council, determine its agenda, direct its work, and, as appropriate to deal with particular subjects, establish and direct the work of subgroups of the Council that shall consist exclusively of members of the Council.

(f) The Vice Chair shall perform:

(i) the duties of the Chair when the position of Chair is vacant; and

(ii) such other functions as the Chair may from time to time assign.

Sec. 4. Functions of the Council. To assist in implementing the policy set forth in section 1 of this order, the Council shall:

(a) collect information and views concerning financial capability from:

(i) executive departments and agencies (agencies), including members of the Financial Literacy and Education Commission established under title V of the Fair and Accurate Credit Transactions Act of 2003 (20 U.S.C. 9702);

(ii) State, local, territorial, and tribal officials; and

(iii) financial capability innovators, educators and education policy experts, financial services providers, corporate leaders, and employers of young workers, as well as other experts;

(b) advise the President and the Secretary on means to effectively implement the policy set forth in section 1 of this order, including means to:

(i) build strong public-private partnerships between and among members of the Financial Literacy and Education Commission; other agencies; State, tribal, and local governments; and private entities to coordinate the use of high quality financial capability resources and practices in schools, families, communities, and elsewhere in order to build the financial capability of young Americans;

(ii) support ongoing research and evaluation of financial education and capability activities aimed at young people to determine and disseminate effective approaches;

(iii) effectively assess the financial capability, including both financial knowledge and financial behaviors, of young Americans;

(iv) identify and develop strategies to pilot financial capability approaches in schools and among young people that are likely to have significant effects on young Americans' financial capability, and determine ways to test and implement such innovations in a large-scale and sustainable manner;

(v) identify, develop, and measure the effectiveness of technology-driven approaches to promote financial capability among young people;

(vi) identify and test promising and tested approaches for increasing planning, saving, and investing for retirement by young people; and

(vii) promote the importance of starting to plan and act early for financial success broadly among Americans through public awareness campaigns or other means;

(c) periodically report to the President, through the Secretary, on:

(i) progress made in implementing the policy set forth in section 1 of this order; and

(ii) recommended means to further implement the policy set forth in section 1 of this order, including with respect to the matters set forth in subsection (b) of this section; and

(d) where appropriate in providing advice and recommendations, take into consideration the particular needs of traditionally underserved populations—including women and minorities.

Sec. 5. Administration of the Council. (a) To the extent permitted by law, the Department of the Treasury shall provide funding and administrative support for the Council, as determined by the Secretary, to implement this order.

(b) The heads of agencies shall provide, as appropriate and to the extent permitted by law, such assistance and information to the Council as the Secretary may request to implement this order.

(c) Members of the Council appointed under section 3(a)(ii) of this order shall serve without any compensation for their work on the Council.

(d) Members of the Council, while engaged in the work of the Council, may be allowed travel expenses, including per diem in lieu of subsistence, as authorized by law for persons serving intermittently in Government service (5 U.S.C. 5701-5707), consistent with the availability of funds.

(e) The Secretary shall designate an official within the Department of the Treasury to serve as an Executive Director to supervise the administrative support for the Council.

Sec. 6. Termination of the Council. Unless extended by the President, the Council shall terminate 2 years after the date of this order.

Sec. 7. General Provisions. (a) Insofar as the Federal Advisory Committee Act, as amended (5 U.S.C. App.) (the “Act”), may apply to the Council, any functions of the President under the Act, except for that of reporting to the Congress, shall be performed by the Secretary in accordance with the guidelines issued by the Administrator of General Services.

(b) Nothing in this order shall be construed to impair or otherwise affect:

(i) the authority granted by law to an executive department, agency, or the head thereof, or the status of that department or agency within the Federal Government; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

June 25, 2013.

[FR Doc. 2013-15782

Filed 6-27-13; 11:15 am]

Billing code 3295-F3